FARM CREDIT ADMINISTRATION

12 CFR Part 652

RIN 3052-AC36

Federal Agricultural Mortgage Corporation Funding and Fiscal Affairs; Risk-Based Capital Requirements; Effective Date

AGENCY: Farm Credit Administration.

ACTION: Notice of effective date.

SUMMARY: The Farm Credit Administration (FCA or Agency), through the FCA Board (Board), issued a final rule under part 652 on June 5, 2008 (73 FR 31937) amending our capital regulations governing the Federal Agricultural Mortgage Corporation. In accordance with 12 U.S.C. 2252, the effective date of the final rule is 30 days from the date of publication in the Federal Register during which either or both Houses of Congress are in session. Based on the records of the sessions of Congress, the effective date of the regulations is July 25, 2008.

DATES: Effective Date: The regulation amending 12 CFR part 652 published on June 5, 2008 (73 FR 31937) is effective July 25, 2008.

FOR FURTHER INFORMATION CONTACT:

Joseph T. Connor, Associate Director for Policy and Analysis, Office of Secondary Market Oversight, Farm Credit Administration, McLean, Virginia 22102-5090, (703) 883-4280, TTY (703) 883-4434, or

Rebecca S. Orlich, Senior Counsel, Office of General Counsel, Farm Credit Administration, McLean, Virginia 22102-5090, (703) 883-4420, TTY (703) 883-4020.

(12 U.S.C. 2252(a)(9) and (10))

Dated: July 25, 2008.
Roland E. Smith,
Secretary, Farm Credit Administration Board.

[FR Doc. E8-17462 Filed 7-29-08; 8:45 am]

BILLING CODE 6705-01-P